SMALL BUSINESS ADMINISTRATION

[Disaster Declaration # 10678 and # 10679]

Hawaii Disaster # HI-00005

AGENCY: U.S. Small Business Administration.

ACTION: Notice.

SUMMARY: This is a Notice of the Presidential declaration of a major disaster for the State of Hawaii (FEMA-1664-DR), dated 10/23/2006.

Incident: Kiholo Bay Earthquake.

Incident Period: 10/15/2006.

EFFECTIVE DATE: 10/23/2006.

Physical Loan Application Deadline Date: 12/22/2006.

Economic Injury (Eidl) Loan Application Deadline Date: 07/23/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 10/23/2006, applications for disaster loans may be filed at the address listed above or other locally announced locations.

The following areas have been determined to be adversely affected by the disaster:

Primary Counties (Physical Damage and Economic Injury Loans): Hawaii.

The Interest Rates are:

For Physical Damage

| Percent
Homeowners With Credit Available Elsewhere | 6.250
Homeowners Without Credit Available Elsewhere | 3.125
Businesses With Credit Available Elsewhere | 7.934
Other (Including Non-Profit Organizations) With Credit Available Elsewhere | 5.000
Businesses and Non-Profit Organizations Without Credit Available Elsewhere | 4.000
For Economic Injury:
Businesses & Small Agricultural Cooperatives Without Credit Available Elsewhere | 4.000

The number assigned to this disaster for physical damage is 10678 2 and for economic injury is 10679 0.

(Catalog of Federal Domestic Assistance Numbers 59002 and 59008).

Herbert L. Mitchell,
Associate Administrator, for Disaster Assistance.

[FR Doc. E6-18295 Filed 10-30-06; 8:45 am]

BILLING CODE 8025-01-P